DEPARTMENT OF ENERGY

Federal Energy Regulatory Commission

[Project No. 10228-038]

American Municipal Power—Ohio, Inc., Cannelton Hydroelectric Project, L.P.; Notice of Availability of Environmental Assessment

March 27, 2007.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed a proposal to amend the design authorized by the license for the Cannelton Hydroelectric Project, to be located at the U.S. Corps of Engineers' Cannelton Locks and Dam on the Ohio River in Hancock County, Kentucky, and prepared an environmental assessment (EA) for the proposed amendment of the project license. In this EA, staff analyzes the potential environmental effects of replacing the authorized 140 small generator units with three conventional turbine and generator units and concludes that the amendment would not constitute a major federal action significantly affecting the quality of the human environment.

A copy of the EA is attached to a Commission order titled “Order Amending License,” issued March 22, 2007 and is available for review at the Commission in the Public Reference Room, located at 888 First Street, NE., Room 2A, Washington, DC 20426, or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659.

Philis J. Posey,
Acting Secretary.

[FR Doc. E7-5997 Filed 3-30-07; 8:45 am]

BILLING CODE 6717-01-P